DEPARTMENT OF LABOR

Employment and Training Administration

[TA-W-36,770]

Lawson Mardon Thermoplate Corporation, Piscataway, New Jersey; Notice of Termination of Investigation

Pursuant to section 221 of the Trade Act of 1974, an investigation was initiated on August 30, 1999 in response to a worker petition which was filed by a company official on behalf of former workers at Lawson Mardon Thermoplate Corporation, Piscataway, New Jersey.

The Department of Labor has been unable to locate an official of the company to provide the information necessary to render a trade adjustment assistance determination. Consequently, the Department of Labor cannot conduct an investigation to make a determination as to whether the workers are eligible for adjustment assistance benefits under the Trade Act of 1974. Therefore, further investigation in this matter would serve no purpose, and the investigation has been terminated.

Signed at Washington, DC, this 28th day of January, 2000.
Grant D. Beale,
Program Manager, Office of Trade Adjustment Assistance.

[FR Doc. 00-3500 Filed 3-14-00; 8:45 am]

BILLING CODE 4510-30-M